DEPARTMENT OF ENERGY

Federal Energy Regulatory Commission

[Docket No. IC18-21-000]

Commission Information Collection Activities (FERC-725G); Consolidated Comment Request; Extension

AGENCY: Federal Energy Regulatory Commission.

ACTION: Comment request.

SUMMARY: In compliance with the requirements of the Paperwork Reduction Act of 1995, the Federal Energy Regulatory Commission (Commission or FERC) is submitting its information collection FERC-725G (Reliability Standards for the Bulk Power System: PRC Reliability Standards, OMB Control No. 1902-0252) to the Office of Management and Budget (OMB) for review of the information collection requirements.

As part of this extension request, FERC will transfer the information collection requirements and burden of the FERC-725G1 (OMB Control No. 1902-0284) and FERC-725G4 (OMB Control No. 1902-0282) into FERC-725G. FERC-725G1 and FERC-725G4 information collections will eventually be discontinued.

Any interested person may file comments directly with OMB and should address a copy of those comments to the Commission as explained below. The Commission previously published a Notice in the Federal Register on 10/17/2018, requesting public comments. The Commission received no comments on the FERC-725G (or the transfers of FERC-725G1 and FERC-725G4) and will make this notation in its submittal to OMB.

DATES: Comments on the collection of information are due by January 30, 2019.

ADDRESSES: Comments filed with OMB, identified by the OMB Control No. 1902-0252 (FERC-725G), should be sent via email to the Office of Information and Regulatory Affairs: oira_submission@omb.gov. Attention: Federal Energy Regulatory Commission Desk Officer. The Desk Officer may also be reached via telephone at 202-395-8528.

A copy of the comments should also be sent to the Commission, in Docket No. IC18-21-000, by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-725G (Reliability Standards for the Bulk Power System: PRC Reliability Standards). ¹

¹ The current information collection requirements of the FERC-725G1 (Mandatory Reliability Standards for the Bulk-Power System: Reliability Standard PRC-004-3; OMB Control No. 1902-0284) and FERC-725G4 (Mandatory Reliability Standards: Reliability Standard PRC-010-1 (Undervoltage Load Shedding); OMB Control No. 1902-0282) are being transferred into the FERC-725G.

OMB Control No.: 1902-0252.

Type of Request: Request a three-year extension of the FERC-725G information collection requirements (including the information collection requirements transferred from the FERC-725G1 and FERC-725G4) with no changes to the current reporting requirements.

Abstract: The information collected by the FERC-725G is required to implement the statutory provisions of section 215 of the Federal Power Act (FPA).² Section 215 of the FPA buttresses the Commission's efforts to strengthen the reliability of the interstate bulk power grid.

² 16 U.S.C. 824o.

The FERC-725G information collection currently contains the reporting and recordkeeping requirements for the following Reliability Standards:

• PRC-002-2 (Disturbance Monitoring and Reporting Requirements).

• PRC-006-2 (Automatic Underfrequency Load Shedding).

• PRC-012-2 (Remedial Action Schemes).

• PRC-019-1 (Coordination of Generating Unit or Plant Capabilities, Voltage Regulating Controls, and Protection).

• PRC-023-4 (Transmission Relay Loadability).

• PRC-024-1 (Generator Frequency and Voltage Protective Relay Settings).

• PRC-025-1 (Generator Relay Loadability).

• PRC-026-1 (Relay Performance During Stable Power Swings).

• PRC-027-1 (Coordination of Protection Systems for Performance During Faults).

Additionally, the information collection requirements of the following Reliability Standards will be transferred into FERC-725G:

• PRC-004-5(i) ³ (Protection System Misoperation Identification and Correction) and

³ This standard is currently contained in the FERC-725G1 information collection. FERC-725G1 will eventually be discontinued.

• PRC-010-2 ⁴ (Undervoltage Load Shedding).

⁴ This standard is currently contained in the FERC-725G4 information collection. FERC-725G4 will eventually be discontinued.

Each of these Reliability Standards has three components that impose burden upon affected industry:

• Requirements (e.g., denoted in each Reliability Standard as R1, R2. . .).

• Measures (e.g., denoted in each Reliability Standard as M1, M2. . .).

• Evidence Retention.

These three components can be reviewed for the Reliability Standards in NERC petitions in FERC's eLibrary system (http://www.ferc.gov/docs-filing/elibrary.asp) or on NERC's own website (www.nerc.com).

Type of Respondents: Transmission owners, generator owners, distribution providers, planning coordinators and transmission planners.

Estimate of Annual Burden: ⁵ The Commission estimates the annual public reporting burden and cost ⁶ for the information collection as:

⁵ Burden is defined as the total time, effort, or financial resources expended by persons to generate, maintain, retain, or disclose or provide information to or for a Federal agency. For further explanation of what is included in the information collection burden, refer to 5 Code of Federal Regulations 1320.3.

⁶ The hourly cost (for salary plus benefits) uses the figures from the Bureau of Labor Statistics, May 2017. Unless otherwise specified, this figure includes salary (https://www.bls.gov/oes/current/naics2_22.htm) and benefits http://www.bls.gov/news.release/ecec.nr0.htm) for an Electrical Engineer (Occupation Code: 17-2071, $66.90/hour) and an Information and Record Clerk (Occupation Code: 43-4199, $39.68/hour). All of the reporting requirements use the electrical engineer rate for cost calculation. Similarly, all of the record-keeping requirements use the information and record clerk rate for cost calculation.

⁷ GO = generator owner, TO = transmission owner, DP = distribution planner; PC = planning coordinator, TP = transmission planners, RC = Reliability Coordinator.

⁸ The average costs are rounded to the nearest dollar.

⁹ Reliability Standard PRC-004-5(i) is an updated standard that neither added nor removed reporting and record keeping requirements (and corresponding burden) as compared to Reliability Standards PRC-004-3 and PRC-004-4.

¹⁰ The reporting requirements for Reliability Standard PRC-004-5(i) are being reduced by 2 hours/response (annually, to 8 hrs. rather than 10) due to completion of a one-time requirement imposed by the Order in Docket No. RD14-14-000.

¹¹ This hourly figure was revised from the 60-day public notice from 0 hours/response to 1 hour/response. This results in a total annual burden of 738 hours for Reliability Standard PRC-019-2.

¹² This hourly figure was revised from the 60-day public notice from 0 hours/response to 1 hour/response. This results in a total annual burden of 738 hours for Reliability Standard PRC-024-1.

FERC-725G: Mandatory Reliability Standards: PRC Reliability Standards
Reliability standards | Number of respondents ⁷ | Annual number of responses per respondent | Total number of responses | Average burden & cost ($) (rounded) per response | Total annual burden hours & total annual cost ($) (rounded) | Cost per respondent (rounded) ($)
| (1) | (2) | (1) * (2) = (3) | (4) ⁸ | (3) * (4) = (5) | (5) ÷ (1)
Reporting Requirements
PRC-023-4 | 741 (TO, GO, DP, PC) | 1 | 741 | 42.445 hrs.; $2,840 | 31,452 hrs.; $2,104,139 | $2,840
PRC-002-2 | 521 (TO, GO) | 1 | 521 | 73.729 hrs.; $4,932 | 38,413 hrs.; $2,569,830 | 4,932
PRC-006-2 | 80 (TO, DP) | 1 | 80 | 47 hrs.; $3,144 | 3,760 hrs.; $251,544 | 3,144
PRC-012-2 | 3,291 (RC, PC, TO, GO, DP) | 1 | 3,291 | 23.746 hrs.; $1,589 | 78,147 hrs.; $5,228,034 | 1,589
PRC-019-1 | 738 (GO, TO) | 1 | 738 | 17 hrs.; $1,137 | 12,546 hrs.; $839,327 | 1,137
PRC-024-1 | 738 (GO) | 1 | 738 | 17 hrs.; $1,137 | 12,546 hrs.; $839,327 | 1,137
PRC-025-1 | 1,019 (GO, TO, DP) | 1 | 1,019 | 6.622 hrs.; $443 | 6,748 hrs.; $451,441 | 443
PRC-026-1 | 1,092 (GO, PC, TO) | 1 | 1,092 | 7.868 hrs.; $526 | 8,592 hrs.; $574,805 | 526
PRC-027-1 | 1,727 (TO, GO, DP) | 1 | 1,727 | 19.757 hrs.; $1,322 | 34,120 hrs.; $2,282,628 | 1,322
PRC-004-5(i) ⁹ (formerly in FERC-725G1) | 648 (TO, GO, DP) | 1 | 648 | 8 hrs.; $535 ¹⁰ | 5,184 hrs.; $346,810 | 535
PRC-010-2 (formerly in FERC-725G4) | 26 (PC, TP, DP) | 1 | 26 | 36 hrs.; $2,408 | 936 hrs.; $62,618 | 2,408
Record-Keeping (Evidence Retention) Requirements
PRC-023-4 | 741 (TO, GO, DP, PC) | 1 | 741 | 513.858 hrs.; $20,390 | 380,769 hrs.; $15,108,914 | 20,390
PRC-002-2 | 521 (TO, GO) | 1 | 521 | 31.599 hrs.; $1,254 | 16,463 hrs.; $653,252 | 1,254
PRC-006-2 | 80 (TO, DP) | 1 | 80 | 5 hrs.; $198 | 400 hrs.; $15,872 | 198
PRC-012-2 | 3,291 (RC, PC, TO, GO, DP) | 1 | 3,291 | 11.754 hrs.; $466 | 38,684 hrs.; $1,534,981 | 466
PRC-019-2 | 738 (GO, TO) | 1 | 738 | 1 hr.; $40 ¹¹ | 738 hrs.; $29,284 | 40
PRC-024-1 | 738 (GO) | 1 | 738 | 1 hr.; $40 ¹² | 738 hrs.; $29,284 | 40
PRC-025-1 | 1,019 (GO, TO, DP) | 1 | 1,019 | 2.044 hrs.; $81 | 2,083 hrs.; $82,653 | 81
PRC-026-1 | 1,092 (GO, PC, TO) | 1 | 1,092 | 12 hrs.; $476 | 13,104 hrs.; $519,967 | 476
PRC-027-1 | 1,727 (TO, GO, DP) | 1 | 1,727 | 15.854 hrs.; $629 | 27,380 hrs.; $1,086,438 | 629
PRC-004-5(i) (formerly in FERC-725G1) | 648 (TO, GO, DP) | 1 | 648 | 12 hrs.; $476 | 7,776 hrs.; $308,552 | 476
PRC-010-2 (formerly in FERC-725G4) | 26 (PC, TP, DP) | 1 | 26 | 12 hrs.; $476 | 312 hrs.; $12,380 | 476
Subtotal for Reporting Requirements |  |  |  |  | 232,444 hrs.; $15,550,503 |
Subtotal for Record-keeping Requirements |  |  |  |  | 488,447 hrs.; $19,381,577 ¹³ |
Total |  |  |  |  | 720,891 hrs.; $34,932,080 ¹³ |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

¹³ These hour and cost figures were updated from cost posited in the 60-day notice based due to updated hour and cost figures related to Reliability Standards PRC-019-2 and PRC-024-1.

Dated: December 21, 2018.
Nathaniel J. Davis, Sr.,
Deputy Secretary.

[FR Doc. 2018-28411 Filed 12-28-18; 8:45 am]

BILLING CODE 6717-01-P